DEPARTMENT OF JUSTICE

[OMB Number 1122-0NEW]

Agency Information Collection Activities; Proposed eCollection eComments Requested; New Collection; Semi-Annual and Annual Performance Reporting Data Catalog for Formula and Discretionary Grant Programs

AGENCY: Office on Violence Against Women, Department of Justice.

ACTION: 60-Day notice.

SUMMARY: The Office on Violence Against Women, Department of Justice, will be submitting the following information collection request to the Office of Management and Budget (OMB) for review and approval in accordance with the Paperwork Reduction Act of 1995.

DATES: Comments are encouraged and will be accepted for 60 days until September 22, 2025.

FOR FURTHER INFORMATION CONTACT: If you have additional comments especially on the estimated public burden or associated response time, suggestions, or need a copy of the proposed information collection instrument with instructions or additional information, please contact Tiffany Watson, Office on Violence Against Women, at 202-307-6026 or Tiffany.Watson@usdoj.gov.

SUPPLEMENTARY INFORMATION: Written comments and suggestions from the public and affected agencies concerning the proposed collection of information are encouraged. Your comments should address one or more of the following four points:

—Evaluate whether the proposed collection of information is necessary for the proper performance of the functions of the Office on Violence Against Women, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women (OVW)'s formula and discretionary grant programs were authorized through the Violence Against Women Act of 1994 (VAWA) and subsequent legislation, including VAWA reauthorizations in 2000, 2005, 2013 and 2022. The four formula programs are STOP (Services, Training, Officers, Prosecutors), SASP (Sexual Assault Services Program), State Coalitions, and Tribal Coalitions. Funding under OVW's two largest formula grant programs—the STOP and SASP Programs—is distributed to states and territories according to a statutory formula. The STOP and SASP Administrators in each state and territory then make subgrants to organizations within their states and territories. OVW posts notices of funding opportunities for each discretionary program every fiscal year and, after a competitive application review process, makes awards directly to local, state, and Tribal governments, courts, non-profit organizations, community-based organizations, secondary schools, institutions of higher education, state and Tribal coalitions and any other organizations authorized to receive funding under the different grant programs. OVW grants help develop effective responses to violence against women through activities that include direct services, crisis intervention, transitional housing, legal assistance to survivors, court improvement, and training for law enforcement and courts. OVW determines grantee performance measures and reporting requirements for each grant program based on the authorizing statute and what is necessary for monitoring the awards. The questions on each grant program's performance report form address the different types of permissible grant-funded activities as outlined in the purpose areas in each program's authorizing statute.

Currently, OVW uses up to 19 individual OMB-approved PDF forms to collect performance and monitoring data from grantees. These forms each collect slightly different data points and may use different questions to collect information about the same activities. OVW is submitting this new information collection request to consolidate existing and previously OMB-approved OVW information collections under a single collection with a new consolidated OMB number. This “new” collection would simply aggregate and streamline the performance reporting process covered by the 19 approved collections. This request leverages technology to streamline, modernize, and reduce paperwork.

Previous Information Collection Requests
Program title | OMB No.
Services, Training, Officers, Prosecutors (STOP) Violence Against Women Formula Grant Program | 1122-0003
Grants to Combat Violent Crimes on Campuses | 1122-0005
Grants to Improve Criminal Justice Response and Enforcement of Protection Orders | 1122-0006
Legal Assistance for Victims Grant Program | 1122-0007
Training and Services to End Abuse in Later Life | 1122-0008
State and Territory Domestic Violence and Sexual Assault Coalitions Program | 1122-0010
Grants to Tribal Domestic Violence and Sexual Assault Coalitions Program | 1122-0011
Education, Training, and Enhanced Services to End Violence Against and Abuse of Individuals with Disabilities and Deaf People | 1122-0012
Rural Domestic Violence, Dating Violence, Sexual Assault, Stalking and Child Abuse Enforcement Assistance | 1122-0013
Transitional Housing Grants for Victims of Domestic Violence, Dating Violence, Sexual Assault or Stalking | 1122-0016
Training and Technical Assistance Initiative | 1122-0017
Grants to Indian Tribal Governments Program | 1122-0018
Grants to Enhance Culturally Specific Services for Victims of Domestic Violence, Dating Violence, Sexual Assault, and Stalking Program. | 1122-0021
Sexual Assault Services Formula Grant Program (SASP) | 1122-0022
Sexual Assault Services Culturally Specific Program | 1122-0023
Tribal Sexual Assault Services Program | 1122-0024
Grants to Engage Men and Boys as Allies in the Prevention of Violence Against Women and Girls Program | 1122-0027
Children and Youth Exposed to Violence Program | 1122-0028
Grants to Support Families in the Justice System | 1122-0032

Current Information Collection Request
Program title | OMB No.
Semi-annual and Annual Performance Reporting Data Catalog for Formula and Discretionary Grant Programs | 1122-XXXX, U.S. Department of Justice, Office on Violence Against Women.

To prepare and inform this new request for a consolidated OMB number, OVW has reviewed all previously collected questions. OVW reduced unnecessary or repetitive questions and revised questions to ensure consistency across programs. The purpose of obtaining a new, consolidated OMB number for OVW's performance reporting data catalog is to align approval for this information collection with the mechanism through which OVW plans to collect the data. All grant performance data elements will be maintained in a data catalog in a web-based platform which builds tailored collection instruments for each grant program. This performance report technology pulls the relevant questions from the approved, streamlined data catalog to replicate the “performance reporting form” that has previously been approved by OMB. OVW intends to discontinue its use of individual fillable PDF forms with program-specific OMB approval numbers and utilize this streamlined web-based performance reporting platform for collecting all performance reporting data under a single OMB-approval number. This overarching data catalog aggregates the previously approved number of respondents and public burden hours.

The data obtained through this new aggregated collection will be used to provide information to Congress on the grant funding, including the effectiveness of grant-funded activities, monitor grant funded activities, and assess the extent to which OVW grant program goals are achieved. There are three sets of respondents: formula grant program state administrators, formula program subgrantees, and discretionary program grantees.

This nimble and efficient approach provides many benefits to OVW and increases the practical utility of data collection. Merging these collections will streamline the OMB approval extension process. This modernized system enables OVW to revise questions, simplify data collection, and respond to Administration directives or future revisions to the authorizing statutes. The new data collection system will enhance the quality, utility, and timeliness of the data collected by OVW. OVW anticipates that the data collected will be of higher quality and utility due to the increased ease of reporting, the enhanced clarity of questions, as well as a reduction in quantitative data collected. Finally, due to better and more timely data, OVW will rigorously and efficiently engage in grantee monitoring.

Finally, this request will minimize the burden of the collection of information on those who are to respond. The electronic, user-friendly format will reduce the amount of time spent navigating the reporting form and increase operational efficiency. The functionality of the new platform allows for increased ease of use, as well as enhanced legibility for grantees. The consolidation of questions across program forms also facilitates consistency as grantees collect the same data across multiple grant programs, reducing unnecessary or repetitive data collection.

Overview of This Information Collection

1. Type of Information Collection: New collection.

2. Title of the Form/Collection: Semi-annual and Annual Performance Reporting Data Catalog for Formula and Discretionary Grant Programs.

3. Agency form number, if any, and the applicable component of the Department of Justice sponsoring the collection: Form Number: 1122-XXXX. U.S. Department of Justice, Office on Violence Against Women.

4. Affected public who will be asked or required to respond, as well as a brief abstract: The affected public includes grantees and subgrantees of federal grant programs authorized by the Violence Against Women Act of 1994 (as amended) and administered by the Office on Violence Against Women. These include formula grant program administrators/grantees and subgrantees and discretionary grant program grantees.

5. An estimate of the total number of respondents and the amount of time estimated for an average respondent to respond/reply: It is estimated that it will take the approximately 6,112 respondents, which include grantees and subgrantees under formula and discretionary programs authorized by the Violence Against Women Act of 1994 (as amended) and administered by the Office on Violence Against Women, approximately 60 minutes to complete a performance reporting form that is specific to the OVW grant program under which they receive funding. In addition, a grantee or subgrantee will only be required to complete the sections of the form that pertain to those specific activities that are supported by federal funding and permissible under the authorizing legislation.

6. An estimate of the total public burden (in hours) associated with the collection: The total hour burden to complete the data collection form is 9,112 hours, that is 3,112 formula program grantees and subgrantees completing a form once a year with an estimated completion time for the form being one hour and 3,000 discretionary program grantees completing a form twice a year with an estimated completion time of one hour.

7. An estimate of the total annual cost burden associated with the collection, if applicable: The annualized costs to the Federal Government resulting from the OVW staff review of the performance reports submitted by grantees are estimated to be $800,000. This includes the cost of building and maintaining this data collection as well as administrative costs.

8. Total Burden Hours:

Activity | Estimated number of respondents | Frequency | Total annual responses | Time per response (min) | Total annual burden (hours)
Formula Administrator Performance Reporting Form | 112 | Annually | 1 time | 60 | 112
Formula Subgrantee Performance Reporting Form | 3,000 | Annually | 1 time | 60 | 3,000
Discretionary Performance Reporting Form | 3,000 | Semi-annually | 2 times | 60 | 6,000
Total |  |  |  |  | 9,112

If additional information is required contact: Darwin Arceo, Department Clearance Officer, United States Department of Justice, Justice Management Division, Policy and Planning Staff, Two Constitution Square, 145 N Street NE, 4W-218, Washington, DC.

Dated: July 22, 2025.
Darwin Arceo,
Department Clearance Officer for PRA, U.S. Department of Justice.

[FR Doc. 2025-13932 Filed 7-23-25; 8:45 am]

BILLING CODE 4410-FX-P